DEPARTMENT OF ENERGY

Federal Energy Regulatory Commission

[Project No. 372-101]

Notice of Application of Transfer of License and Soliciting Comments, Motions To Intervene, and Protests: Southern California Edison Company; Lower Tule Hydro, LLC

On March 3, 2025, Southern California Edison Company (transferor) and Lower Tule Hydro, LLC (transferee) filed an application for a transfer of license of the 2.52-megawatt Lower Tule River Hydroelectric Project No. 372. The project is located on the Middle Fork Tuolumne River in Tulare County, California and occupies federal land within the Sequoia National Forest administered by the U.S. Forest Service.

Pursuant to 16 U.S.C. 801, the applicants seek Commission approval to transfer the license for the project from Southern California Edison Company to Lower Tule Hydro, LLC. The transferee will be required by the Commission to comply with all the requirements of the license as though it were the original licensee.

Applicants Contacts: (For transferor) Wayne Allen, Southern California Edison, 2244 Walnut Grove Avenue, Rosemead, CA 91770, (626) 302-9741, wayne.allen@sce.com.

(For transferee) Ted S. Sorenson, PE, Sorenson Engineering, Inc., 711 E Turtle Point Drive, Ivins, UT 84738, (208) 589-6908, ted.sorensonhydro.com.

FERC Contact: Steven Sachs, Phone: (202) 502-8666, Email: Steven.Sachs@ferc.gov.

Deadline for filing comments, motions to intervene, and protests: May 5, 2025. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY).

In lieu of electronic filing, you may submit a paper copy. Submissions sent via U.S. Postal Service must be addressed to, Debbie-Anne A. Reese, Secretary, Federal Energy Regulatory Commission, 888 First Street NE, Room 1A, Washington, DC 20426. Submissions sent via any other carrier must be addressed to, Debbie-Anne A. Reese, Secretary, Federal Energy Regulatory Commission, 12225 Wilkins Avenue, Rockville, Maryland 20852. The first page of any filing should include docket number P-372-101. Comments emailed to Commission staff are not considered part of the Commission record.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

Dated: April 3, 2025.
Debbie-Anne A. Reese,
Secretary.

[FR Doc. 2025-06069 Filed 4-8-25; 8:45 am]

BILLING CODE 6717-01-P